DEPARTMENT OF TRANSPORTATION

Federal Aviation Administration

[RTCA Special Committee 186]

Automatic Dependent Surveillance—Broadcast (ADS-B)

Pursuant to section 10(a)(2) of the Federal Advisory Committee Act (Pub. L. 92-463, 5 U.S.C., Appendix 2), notice is hereby given for Special Committee (SC)-186 meeting to be held October 17-19, 2000, starting at 9 a.m. The meeting will be held at the Defence Evaluation Research Agency (DERA), Building B, St Andrews Road, Malvern, United Kingdom.

The agenda will include: (1) Welcome and Introductory Remarks; (2) Review of Meeting Agenda; (3) Review and Approval of the Previous Meeting Minutes; (4) Review EUROCAE WG-51 Report: (a) SG-1, Automatic Dependent Surveillance-Broadcast (ADS-B); (b) SG-2, Very High Frequency Data Link (VDL) Mode 4; (5) SC-186 Activity Reports for the following Working Groups (WG): (a) WG-1, Operations & Implementation; (b) WG-2, Traffic Information Services—Broadcast (TIS-B); (c) WG-3, 1090 MHz Minimum Operational Performance Standards (MOPS); (d) WG-4, Application Technical Requirements; (6) VDL Mode 4 MOPS Status and Discussion; (7) MOPS for 1090 MHz Status and Discussion; (8) EMERATA Presentation (European Commission ADS-B Project); (9) Review/Approve: Application of Airborne Conflict Management: Detection, Prevention, & Resolution, RTCA Paper No. 294-00/SC186-172; (10) Review Revision to Terms of Reference for SC-186; (11) Review Process for Proposing Changes to DO-242: Minimum Aviation System Performance Standards (MASPS) for ADS-B; (12) Review Action Items/Work Program; (13) DERA Demonstration (time permitted); (14) Other Business; (15) Date and Location of Next Meeting; (16) Closing.

Attendance is open to the interested public but limited to space availability. With the approval of the chairman, members of the public may present oral statements at the meeting. Persons wishing to present statements or obtain information should contact the RTCA Secretariat, 1140 Connecticut Avenue, NW., Suite 1020, Washington, DC, 20036; (202) 833-9339 (phone); (202) 833-9434 (fax); or the on-site contact, Sue Whitehead, at +44-1684-894792 (phone) or Suew@atc.dera.gov.uk (email). Members of the public may present a written statement to the committee at any time.

Issued in Washington, DC, on September 22, 2000.
Janice L. Peters,
Designated Official.

[FR Doc. 00-25076 Filed 9-28-00; 8:45 am]

BILLING CODE 4910-13-M